ENVIRONMENTAL PROTECTION AGENCY

40 CFR Part 52

[EPA-R03-OAR-2016-0304; FRL-9952-47-Region 3]

Approval and Promulgation of Air Quality Implementation Plans; Maryland; Control of Volatile Organic Compounds Emissions From Fiberglass Boat Manufacturing Materials; Withdrawal of Direct Final Rule

AGENCY: Environmental Protection Agency (EPA).

ACTION: Withdrawal of direct final rule.

SUMMARY: Due to the receipt of a comment, the Environmental Protection Agency (EPA) is withdrawing the direct final rule published on August 1, 2016, to approve the State of Maryland's adoption of the requirements in EPA's control technique guidelines (CTG) for fiberglass boat manufacturing materials.

DATES: The direct final rule published at 81 FR 50336 on August 1, 2016, is withdrawn effective September 16, 2016.

FOR FURTHER INFORMATION CONTACT: Gavin Huang, (215) 814-2042, or by email at huang.gavin@epa.gov.

SUPPLEMENTARY INFORMATION: In the direct final rule published on August 1, 2016 (81 FR 50336), we stated that if we received comment by August 31, 2016, the rule would be withdrawn and not take effect. EPA received a comment before the August 31, 2016 deadline. EPA will address the comment received in a subsequent final action based upon the proposed action also published on August 1, 2016 (81 FR 50427). EPA will not institute a second comment period on this action.

List of Subjects in 40 CFR Part 52

Environmental protection, Air pollution control, Carbon monoxide, Incorporation by reference, Ozone, Volatile organic compounds.

Dated: September 6, 2016.
Shawn M. Garvin,
Regional Administrator, Region III.

Accordingly, the direct final rule which published in the Federal Register on August 1, 2016, at 81 FR 50336 is withdrawn as of September 16, 2016.

[FR Doc. 2016-22225 Filed 9-15-16; 8:45 am]

BILLING CODE 6560-50-P